DEPARTMENT OF TRANSPORTATION

Federal Aviation Administration

14 CFR Part 39

[Docket No. FAA-2015-0083; Directorate Identifier 2014-NM-131-AD; Amendment 39-18347; AD 2015-25-09]

RIN 2120-AA64

Airworthiness Directives; Airbus Airplanes

AGENCY: Federal Aviation Administration (FAA), Department of Transportation (DOT).

ACTION: Final rule.

SUMMARY: We are adopting a new airworthiness directive (AD) for certain Airbus Model A330-200, A330-200 Freighter, and A330-300 series airplanes; and all Model A340-200 and A340-300 series airplanes. This AD was prompted by reports that a bracket that attaches the cockpit instrument panel to the airplane structure does not sustain the fatigue loads of the design service goal. This AD requires repetitive inspections of that bracket for cracking and to determine if both lugs are fully broken, an inspection for cracking of an adjacent bracket if necessary, and corrective actions if necessary. This AD also provides an optional modification, which terminates the repetitive inspections. We are issuing this AD to detect and correct cracking on a bracket of the cockpit instrument panel, which, combined with failure of the horizontal beam, could lead to collapse of the cockpit panel, and reduced controllability of the airplane.

DATES: This AD becomes effective January 28, 2016.

The Director of the Federal Register approved the incorporation by reference of certain publications listed in this AD as of January 28, 2016.

ADDRESSES: You may examine the AD docket on the Internet at http://www.regulations.gov/#!docketDetail;D=FAA-2015-0083; or in person at the Docket Management Facility, U.S. Department of Transportation, Docket Operations,M-30, West Building Ground Floor, Room W12-140, 1200 New Jersey Avenue SE., Washington, DC.

For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-0083.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to certain Airbus Model A330-200, A330-200 Freighter, and A330-300 series airplanes; and all Model A340-200 and A340-300 series airplanes. The NPRM published in the Federal Register on February 13, 2015 (80 FR 7989).

The European Aviation Safety Agency (EASA), which is the Technical Agent for the Member States of the European Union, has issued EASA Airworthiness Directive 2014-0127, dated May 15, 2014 (referred to after this as the Mandatory Continuing Airworthiness Information, or “the MCAI”), to correct an unsafe condition for certain Airbus Model A330-200, A330-200 Freighter, and A330-300 series airplanes; and all Model A340-200, and A340-300 series airplanes. The MCAI states:

During flight tests, high stress levels have been measured on the bracket No 6 which attaches the cockpit instrument panel to the aeroplane structure, apparently introduced through the nose landing gear due to bumps on the runway. Airbus determined that the bracket does not sustain the fatigue loads during the Design Service Goal (DSG).

This condition, if not detected and corrected, combined with failure of the horizontal beam, could lead to collapse of the cockpit panel, possibly resulting in reduced control of the aeroplane.

To address this potential unsafe condition, Airbus developed a program to inspect the condition of the affected cockpit instrument panel bracket No 6, and designed a stronger (reinforced titanium undrilled) bracket. The new bracket can be installed in-service through Airbus Service Bulletin (SB) A330-25-3548 or SB A340-25-4354, as applicable to aeroplane type.

For the reasons described above, this [EASA] AD requires repetitive inspections of the cockpit instrument panel bracket No 6 and, depending on findings, the accomplishment of applicable corrective actions. This [EASA] AD also provides the installation of the stronger bracket as optional terminating action for the repetitive actions required by this [EASA] AD.

The corrective actions include replacing bracket No. 6 and bracket No. 7 with serviceable parts, and repair, as applicable.

You may examine the MCAI in the AD docket on the Internet at http://www.regulations.gov/#!documentDetail;D=FAA-2015-0083-0002.

Comments

We gave the public the opportunity to participate in developing this AD. We have considered the comment received. The following presents the comment received on the NPRM (80 FR 7989, February 13, 2015) and the FAA's response.

Request To Identify Part Numbers in Paragraphs (g) and (h)

Delta Airlines requested that paragraphs (g) and (h) of the proposed AD (80 FR 7989, February 13, 2015) be revised to specify the part numbers of the affected brackets. Delta suggested that paragraph (g) of the proposed AD be revised to include the part number after the reference to bracket No. 6 (part number (P/N) F2511012820000, pre-modification Number 55128S18242; and P/N F2511373420000, post-modification Number 55128S18242). Delta also requested that paragraph (h)(2) of the proposed AD be revised to include the part number after bracket No. 6 (P/N F2511012820000, pre-modification Number 55128S18242; and P/N F2511373420000, post-modification Number 55128S18242) and bracket No. 7 (P/N F2511012820000, pre-modification Number 55128S18242; and P/N F2511373420000, post-modification Number 55128S18242). Delta stated that Airbus Service Bulletin A330-25-3538, Revision 02, dated April 24, 2014, specifies to inspect only P/N F2511012820000, pre-modification Number 55128S18242, and P/N F2511373420000, post-modification Number 55128S18242, and identifies only those part numbers as “affected” brackets that are used on both bracket No. 6 and bracket No. 7.

We agree to include the part numbers identified by the commenter in paragraphs (g) and (h)(2) of this AD. We have also included the part numbers in paragraphs (h)(1) and (h)(2)(i) of this AD. The “Reason/Description/Operational Consequences” section of Airbus Service Bulletin A330-25-3538, Revision 02, dated April 24, 2014, specifies to inspect P/N F2511012820000, pre-modification Number 55128S18242, and P/N F2511373420000, post-modification Number 55128S18242. Also, the Accomplishment Instructions of that service bulletin specify to replace P/N F2511012820000 or P/N F2511373420000, as applicable. We contacted Airbus for verification that only those part numbers are considered to be “affected” brackets and Airbus confirmed that only those part numbers are affected. The same affected and replacement parts are used on both Airbus Model A330-200, A330-200 Freighter, and A330-300 series airplanes; and A340-200 and A340-300 series airplanes.

Additional Change to This AD

A typographical error in paragraph (c)(1) of the proposed AD (80 FR 7989, February 13, 2015) has been corrected in this final rule. Paragraph (c)(1) of the proposed AD inadvertently included Model A330-313 airplanes instead of Model A330-343 airplanes. The SUMMARY section and preamble of the NPRM stated that the applicability included Model A330-300 series airplanes, which include Model A330-343 airplanes.

Conclusion

We reviewed the relevant data, considered the comment received, and determined that air safety and the public interest require adopting this AD with the changes described previously and minor editorial changes. We have determined that these minor changes:

• Are consistent with the intent that was proposed in the NPRM (80 FR 7989, February 13, 2015) for correcting the unsafe condition; and

• Do not add any additional burden upon the public than was already proposed in the NPRM (80 FR 7989, February 13, 2015).

We also determined that these changes will not increase the economic burden on any operator or increase the scope of this AD.

Related Service Information Under 1 CFR Part 51

Airbus has issued the following service information.

• Airbus Service Bulletin A330-25-3538, Revision 02, dated April 24, 2014, which provides procedures for inspection of cockpit instrument panel bracket 6.

• Airbus Service Bulletin A330-25-3548, dated October 31, 2013, which provides procedures for replacement of cockpit instrument panel bracket 6 with a reinforced titanium bracket.

• Airbus Service Bulletin A340-25-4351, Revision 01, dated January 31, 2014, which provides procedures for inspection of cockpit instrument panel bracket 6.

• Airbus Service Bulletin A340-25-4354, dated October 31, 2013, which provides procedures for replacement of cockpit instrument panel bracket 6 with a reinforced titanium bracket.

This service information is reasonably available because the interested parties have access to it through their normal course of business or by the means identified in the ADDRESSES section.

Costs of Compliance

We estimate that this AD affects 76 airplanes of U.S. registry.

We also estimate that it will take about 8 work-hours per product to comply with the basic requirements of this AD. The average labor rate is $85 per work-hour. Based on these figures, we estimate the cost of this AD on U.S. operators to be $51,680, or $680 per product.

We have received no definitive data that would enable us to provide cost estimates for the follow-on repairs specified in this AD.

In addition, we estimate that any necessary replacements will take about 23 work-hours and require parts costing $0, for a cost of $1,955 per product. We have no way of determining the number of aircraft that might need these actions.

We estimate that the optional modification will take about 9 work hours and require parts costing $1,770, for a cost of $2,535.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-0083; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-25-09 Airbus: Amendment 39-18347. Docket No. FAA-2015-0083; Directorate Identifier 2014-NM-131-AD.

(a) Effective Date

This AD becomes effective January 28, 2016.

(b) Affected ADs

None.

(c) Applicability

This AD applies to the Airbus airplanes, certificated in any category, identified in paragraphs (c)(1) and (c)(2) of this AD.

(1) Model A330-201, -202, -203, -223, -243, -223F, -243F, -301, -302, -303, -321, -322, -323, -341, -342, and -343 airplanes, all manufacturer serial numbers except those on which Airbus Modification 203287 has been embodied in production.

(2) Model A340-211, -212, -213, -311, -312, and -313 airplanes, all manufacturer serial numbers.

(d) Subject

Air Transport Association (ATA) of America Code 25, Equipment/Furnishings.

(e) Reason

This AD was prompted by reports that a bracket that attaches the cockpit instrument panel to the airplane structure does not sustain the fatigue loads of the design service goal. We are issuing this AD to detect and correct cracking on a bracket of the cockpit instrument panel, which, combined with failure of the horizontal beam, could lead to collapse of the cockpit panel, and reduced controllability of the airplane.

(f) Compliance

Comply with this AD within the compliance times specified, unless already done.

(g) Inspection of Bracket No. 6 of the Cockpit Instrument Panel

At the latest of the times specified in paragraphs (g)(1), (g)(2), and (g)(3) of this AD: Do a detailed inspection of bracket No. 6 (part number (P/N) F2511012820000, pre-modification Number 55128S18242; or P/N F2511373420000, post-modification Number 55128S18242) of the cockpit instrument panel for cracking and to determine if both bracket lugs are fully broken, in accordance with the Accomplishment Instructions of Airbus Service Bulletin A330-25-3538, Revision 02, dated April 24, 2014; or Airbus Service Bulletin A340-25-4351, Revision 01, dated January 31, 2014; as applicable. Repeat the inspection thereafter at intervals not to exceed 2,600 flight cycles.

(1) Prior to accumulating 17,200 total flight cycles since the airplane's first flight.

(2) Prior to bracket No. 6 of the cockpit instrument panel accumulating 17,200 total flight cycles since installation on an airplane.

(3) Within 500 flight cycles after the effective date of this AD.

(h) Inspection and Corrective Actions

(1) If, during any inspection required by paragraph (g) of this AD, any cracking of bracket No. 6 (P/N F2511012820000, pre-modification Number 55128S18242; or P/N F2511373420000, Post-modification Number 55128S18242) of the cockpit instrument panel is found, and both bracket lugs are not fully broken: Within 2,600 flight cycles after that inspection, replace bracket No. 6 of the cockpit instrument panel with a serviceable part, in accordance with the Accomplishment Instructions of Airbus Service Bulletin A330-25-3538, Revision 02, dated April 24, 2014; or Airbus Service Bulletin A340-25-4351, Revision 01, dated January 31, 2014; as applicable. Replacement of bracket No. 6 (P/N F2511012820000, pre-modification Number 55128S18242; or P/N F2511373420000, post-modification Number 55128S18242) of the cockpit instrument panel does not constitute terminating action for the repetitive inspections required by paragraph (g) of this AD.

(2) If, during any inspection required by paragraph (g) of this AD, any cracking of bracket No. 6 (P/N F2511012820000, pre-modification Number 55128S18242; or P/N F2511373420000, Post-modification Number 55128S18242) of the cockpit instrument panel is found and both bracket lugs are fully broken: Before further flight, do a detailed inspection of bracket No. 7 (P/N F2511012820000, pre-modification Number 55128S18242; or P/N F2511373420000, Post-modification Number 55128S18242) of the cockpit instrument panel for cracking, in accordance with the Accomplishment Instructions of Airbus Service Bulletin A330-25-3538, Revision 02, dated April 24, 2014; or Airbus Service Bulletin A340-25-4351, Revision 01, dated January 31, 2014; as applicable.

(i) If, during the inspection required by paragraph (h)(2) of this AD, no cracking is found in bracket No. 7 of the cockpit instrument panel: Before further flight, replace bracket No. 6 and bracket No. 7 of the cockpit instrument panel with serviceable parts, in accordance with the Accomplishment Instructions of Airbus Service Bulletin A330-25-3538, Revision 02, dated April 24, 2014; or Airbus Service Bulletin A340-25-4351, Revision 01, dated January 31, 2014; as applicable. Replacement of bracket No. 6 (P/N F2511012820000, pre-modification Number 55128S18242; or P/N F2511373420000, post-modification Number 55128S18242) of the cockpit instrument panel does not constitute terminating action for the repetitive inspections required by paragraph (g) of this AD.

(ii) If, during the inspection required by paragraph (h)(2) of this AD, any cracking is found in bracket No. 7 of the cockpit instrument panel: Although Airbus Service Bulletin A330-25-3538, Revision 02, dated April 24, 2014; and Airbus Service Bulletin A340-25-4351, Revision 01, dated January 31, 2014; specify to contact Airbus for repair instructions, and specify that action as “RC” (Required for Compliance), repair the cracking before further flight using a repair method approved by the Manager, International Branch, ANM-116, Transport Airplane Directorate, FAA; or the European Aviation Safety Agency (EASA); or Airbus's EASA Design Organization Approval (DOA).

(i) Optional Terminating Modification for Paragraph (g) of This AD

Modifying an airplane by replacing bracket No. 6 of the cockpit instrument panel with a new, reinforced bracket, in accordance with the Accomplishment Instructions of Airbus Service Bulletin A330-25-3548, dated October 31, 2013; or Airbus Service Bulletin A340-25-4354, dated October 31, 2013; as applicable; terminates the repetitive inspections required by paragraph (g) of this AD.

(j) Credit for Previous Actions

This paragraph provides credit for actions required by paragraphs (g) and (h) of this AD, if those actions were performed before the effective date of this AD using the service information identified in paragraph (j)(1), (j)(2), or (j)(3) of this AD, which is not incorporated by reference in this AD.

(1) Airbus Service Bulletin A330-25-3538, dated September 10, 2013.

(2) Airbus Service Bulletin A330-25-3538, Revision 01, dated April 24, 2014.

(3) Airbus Service Bulletin A340-25-4351, dated September 10, 2014.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): Except as required by paragraph (h)(2)(ii) of this AD, if Airbus Service Bulletin A330-25-3538, Revision 02, dated April 24, 2014; or Airbus Service Bulletin A340-25-4351, Revision 01, dated January 31, 2014; contain procedures or tests that are identified as RC, those procedures and tests must be done to comply with this AD; any procedures and tests that are not identified as RC are recommended. Those procedures and tests that are not identified as RC may be deviated from, using accepted methods in accordance with the operators maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA Airworthiness Directive 2014-0127, dated May 15, 2014, for related information. This MCAI may be found in the AD docket on the Internet at http://www.regulations.gov/#!documentDetail;D=FAA-2015-0083-0002.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-25-3538, Revision 02, dated April 24, 2014.

(ii) Airbus Service Bulletin A330-25-3548, dated October 31, 2013.

(iii) Airbus Service Bulletin A340-25-4351, Revision 01, dated January 31, 2014.

(iv) Airbus Service Bulletin A340-25-4354, dated October 31, 2013.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 9, 2015.
Michael Kaszycki,
Acting Manager, Transport Airplane Directorate, Aircraft Certification Service.

[FR Doc. 2015-31714 Filed 12-23-15; 8:45 am]

BILLING CODE 4910-13-P